DEPARTMENT OF TRANSPORTATION

Federal Highway Administration

Rescinding the Notice of Intent for an Environmental Impact Statement; Multiple Counties, Alabama

AGENCY: Federal Highway Administration (FHWA), DOT.

ACTION: Rescind Notice of Intent.

SUMMARY: The FHWA is issuing this notice to advise the public that the 2006 Record of Decision (ROD) and the Final Environmental Impact Statements (FEISs) for Federal-aid projects DPS-A002(002) and DPS-A002(003), the Memphis to Atlanta transportation corridor, in multiple counties in Alabama is rescinded.

FOR FURTHER INFORMATION CONTACT: Mr. Mark D. Bartlett, Division Administrator, Federal Highway Administration, 9500 Wynlakes Place, Montgomery, Alabama 36117; Email: mark.bartlett@dot.gov; Telephone: (334) 274-6350.

SUPPLEMENTARY INFORMATION: The FHWA, in cooperation with the Alabama Department of Transportation (ALDOT), is rescinding the ROD and FEISs for projects DPS-A002(002) and DPS-A002(003) [previously DPS-A002(001)]. The proposed projects were to construct a multi-lane, limited access roadway that would function as a major segment of the Memphis to Atlanta transportation corridor. The roadway would have proved a direct link between the two metropolitan areas. DPS-A002(002) contained the western portion of the corridor between interstate 65 (I-65) and the Mississippi state line and located in Colbert, Lawrence, Morgan and Limestone Counties. DPS-A002(003) contained the eastern portion of the corridor between I-65 and the Georgia state line and located in Cherokee, Dekalb, Marshall, Madison, and Limestone Counties.

The ROD for the projects was issued August 31, 2006. The FHWA has determined, in conjunction with ALDOT, the ROD and the FEIS for the projects shall be rescinded due to objections raised by Redstone Arsenal. The Arsenal objected to a public roadway passing through Arsenal property due to increased security concerns.

Any future Federal-aid actions within this corridor will comply with environmental review requirements of the National Environmental Policy Act (NEPA, 42 U.S.C. 4321, et seq.), FHWA environmental regulations (23 CFR 771) and related authorities, as appropriate.

Authority: 23 U.S.C. 315; 49 CFR 1.48.

(Catalog of Federal Domestic Assistance Program Number 20.205, Highway Planning and Construction. The regulations implementing Executive Order 12372 regarding intergovernmental consultation on Federal programs and activities apply to this program.)

Issued on: August 20, 2018.
Mark Bartlett,
Division Administrator, Federal Highway Administration, Montgomery, Alabama.

[FR Doc. 2018-18668 Filed 8-28-18; 8:45 am]

BILLING CODE 4910-22-P